DEPARTMENT OF HEALTH AND HUMAN SERVICES

National Institutes of Health

National Institute on Minority Health and Health Disparities; Amended Notice of Meeting

Notice is hereby given of a change in the meeting of the National Advisory Council on Minority Health and Health Disparities, September 09, 2021, 01:00 p.m. to September 10, 2021, 04:00 p.m., National Institutes of Health, 6707 Democracy Boulevard, Bethesda, MD 20892 which was published in the Federal Register on July 19, 2021, FR Doc 2021-15311, 86 FR 38106.

This notice is being amended to change the closed session start and end times on September 9, 2021 from 1:00 p.m.-5:00 p.m. to 1:30 p.m.-5:30 p.m. The meeting is partially closed to the public.

Dated: August 18, 2021.
David W. Freeman,
Program Analyst, Office of Federal Advisory Committee Policy.

[FR Doc. 2021-18162 Filed 8-23-21; 8:45 am]

BILLING CODE 4140-01-P